DEPARTMENT OF COMMERCE

Census Bureau

Agency Information Collection Activities; Submission to the Office of Management and Budget (OMB) for Review and Approval; Comment Request; 2022 Economic Census

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 27, 2021 during a 60-day comment period. This notice allows for an additional 30 days for public comments.

Agency: U.S. Census Bureau, Commerce.

Title: 2022 Economic Census.

OMB Control Number: 0607-0998.

Stateside Electronic Path ID(s): The paths in the electronic instrument used to collect information are tailored to specific industries or groups of industries. The Electronic Path ID's are too numerous to list individually in this notice.

Island Areas Questionnaire Number(s)/Electronic Path ID(s): The questionnaires and paths in the electronic instrument used to collect information in the Islands Areas are tailored to specific industries or groups of industries. Electronic instruments are available in English. Puerto Rico paper questionnaires are available in English as well as Spanish.

Type of Request: Regular submission, Request for a Reinstatement, with Change, of a Previously Approved Collection.

Number of Respondents: 4,423,690.

Average Hours per Response: 1.37 hours.

Burden Hours: 6,064,840. (This burden estimate differs from that published in the August 27, 2021 Federal Register Notice due to updated and more detailed estimates of the likely number of respondents for each electronic questionnaire path as well as better estimates of the time required to complete the new electronic questionnaires.)

Needs and Uses: The 2022 Economic Census will compile statistics on an estimated 8.3 million employer business establishments in industries defined by the 2022 North American Industry Classification System (NAICS). Data on 4.7 million of these establishments will be obtained by direct data collection from an estimated 4.4 million respondents. Data from administrative records or imputation will be used for the remaining 3.6 million establishments—as well as for any contacted establishments that fail to respond. In addition to the general enumeration of businesses, the 2022 census program also includes surveys of business owners and commodity flows. Those surveys will be submitted separately.

This request for approval covers the information collection instruments and procedures that will be used in the enumeration of U.S. domestic businesses operating in the United States as well as the Island Areas of American Samoa, the Commonwealth of the Northern Mariana Islands, Guam, Puerto Rico, and the U.S. Virgin Islands.

The public administration sector (i.e., governments) is out of scope to the economic census. The U.S. Census Bureau conducts, and will submit separately for approval, the quinquennial census of governments and other current programs that measure the activities of government establishments.

The Island Areas component provides the only source of comprehensive data for the Island Areas at a geographic level similar to U.S. counties. It will produce basic statistics by industry for number of establishments, value of shipments/receipts/revenue/sales, payroll, and employment. It also will yield a variety of industry-specific statistics, depreciable assets, selected purchased services, inventories, and capital expenditures, value of shipments/receipts/revenue/sales by product line as defined by the North American Product Classification System (NAPCS), size of establishments, and other industry-specific measures.

The 2022 Economic Census will cover the following NAICS sectors of the U.S. economy:

• Agriculture

• Mining, Quarrying, and Oil and Gas Extraction

• Utilities

• Construction

• Manufacturing

• Wholesale Trade

• Retail Trade

• Transportation and Warehousing

• Information

• Finance and Insurance

• Real Estate and Rental and Leasing

• Professional, Scientific and Technical Services

• Management of Companies and Enterprises

• Administrative and Support and Waste Management and Remediation Services

• Educational Services

• Health Care and Social Assistance

• Arts, Entertainment, and Recreation

• Accommodation and Food Services

• Other Services (except Public Administration).

The 2022 Economic Census will produce basic statistics by industry for the number of establishments, value of shipments/receipts/revenue/sales, payroll, and employment. It also will yield a variety of industry-specific statistics, including expenses, depreciable assets, selected purchased services, inventories, and capital expenditures, value of shipments/receipts/revenue/sales by product line as defined by the North American Product Classification System (NAPCS), type of operation, size of establishments, and other industry-specific measures.

All 2022 Economic Census draft questionnaire electronic instrument paths can be accessed at: http://www.census.gov/programs-surveys/economic-census/information.html.

The Economic Census is the primary source of information about the structure and functioning of the economies of the Nation and each Island Area and features the only recognized source of data at a geographic level similar to U.S. counties. Economic census statistics serve as part of the framework for the national accounts and provides essential information for government, business, and the general public. The Federal Government, governments of the Island Areas, Bureau of Economic Analysis (BEA), and the Bureau of Labor Statistics rely on the economic census as an important part of the framework for their income and product accounts, input-output tables, economic indices, and other composite measures that serve as the basis for economic policymaking, planning, and program administration. Further, the Economic Census provides sampling frames and benchmarks for current business surveys which track short-term economic trends, serve as economic indicators, and contribute critical source data for current estimates of gross domestic product. State and local governments rely on the economic census as a unique source of comprehensive economic statistics for small geographic areas for use in policy-making, planning, and program administration. Finally, industry, business, academia, and the general public use information from the economic census for evaluating markets, preparing business plans, making business decisions, developing economic models and forecasts, conducting economic research, and establishing benchmarks for their own sample surveys.

Affected Public: Business or other for-profit organizations; Farms.

Frequency: Every 5 years.

Respondent's Obligation: Mandatory.

Legal Authority: Title 13, United States Code (U.S.C.). Sections 131, 191 and 224.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0607-0998.

Sheleen Dumas,
Department PRA Clearance Officer, Office of the Chief Information Officer, Commerce Department.

[FR Doc. 2022-04352 Filed 3-1-22; 8:45 am]

BILLING CODE 3510-07-P